DEPARTMENT OF TRANSPORTATION

Federal Aviation Administration

[Docket No. FAA-2019-0332]

Agency Information Collection Activities: Requests for Comments; Clearance of a Renewed Approval of Information Collection: FAA Airport Master Record

AGENCY: Federal Aviation Administration (FAA), DOT.

ACTION: Notice and request for comments.

SUMMARY: In accordance with the Paperwork Reduction Act of 1995, FAA invites public comments about our intention to request the Office of Management and Budget (OMB) approval to renew an information collection. The collection involves aeronautical information that the FAA uses to carry out agency missions related to aviation flying safety, flight planning, airport engineering and federal grants analysis, aeronautical chart and flight information publications, and the promotion of air commerce as required by statute. The information to be collected will be used for airspace studies conducted under 49 U.S.C. 329(b) and will be published in flight information handbooks and charts for pilot use.

DATES: Written comments should be submitted by July 1, 2019.

ADDRESSES: Please send written comments:

By Electronic Docket: www.regulations.gov (Enter docket number into search field).

By Mail: Andrew Goldsmith, Airport Engineering Division (AAS-100), Office of Airport Safety and Standards, Federal Aviation Administration, 800 Independence Avenue SW, Washington, DC 20591.

By Fax: 202-267-5383.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Andrew Goldsmith by email at: Andrew.E.Goldsmith@faa.gov; phone: 202-267-7669.

SUPPLEMENTARY INFORMATION:

OMB Control Number: 2120-0015.

Title: FAA Airport Master Record.

Form Numbers: FAA Forms 5010-1, 5010-2, 5010-3, 5010-5.

Type of Review: Renewal of an information collection.

Background: 49 U.S.C. 329(b) empowers and directs the Secretary of Transportation to collect and disseminate information on civil aeronautics. Aeronautical information is required by the FAA to carry out agency missions related to aviation flying safety, flight planning, airport engineering and federal grants analysis, aeronautical chart and flight information publications, and the promotion of air commerce as required by statute. The safety information collected includes, but is not limited to, the following: Airport name, associated city, airport owner and airport manager, airport latitude, longitude, elevation, runway description, services available, runway approach light systems, communications frequency, airport use, number of operations and based aircraft, obstruction data, and pertinent general remarks. Airport owners/managers and state inspectors submit this information to the FAA.

Respondents: Approximately 9,037 Airport owners/managers and state inspectors.

Frequency: Information is collected on occasion.

Estimated Average Burden per Response: 1 hour.

Estimated Total Annual Burden: 9,037.

Issued in Washington, DC, on April 29, 2019.
Andrew Goldsmith,
Aeronautical Information Specialist, Airport Engineering Division, Office of Airport Safety and Standards.

[FR Doc. 2019-08944 Filed 5-1-19; 8:45 am]

BILLING CODE 4910-13-P